COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) to the Procurement List that will be furnished by nonprofit agencies employing persons who are blind or have other severe disabilities, and delete service(s) previously furnished by such agencies.

DATES: Comments must be received on or before: May 8, 2022.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

MR 16800—6 in 1 Screwdriver

MR 16801—Flathead Screwdriver

MR 16802—Phillips Screwdriver

MR 16803—Needle Nose Pliers

MR 16804—Slip Joint Pliers

MR 16805—Adjustable Wrench, 6 Inches

MR 16806—Tape Measure

MR 16807—Tie Down Strap

Designated Source of Supply: Winston-Salem Industries for the Blind, Inc., Winston-Salem, NC

Contracting Activity: Military Resale-Defense Commissary Agency

Mandatory for: The requirements of military commissaries and exchanges in accordance with the 41 CFR 51-6.4

Distribution: C-List

Deletions

The following service(s) are proposed for deletion from the Procurement List:

Service(s)

Service Type: Janitorial/Custodial

Mandatory for: Cape Henlopen, USARC, Lewes, DE

Mandatory for: Fleming Goodwin, USARC, Dover, DE

Designated Source of Supply: CHI Centers, Inc., Silver Spring, MD

Contracting Activity: DEPT OF THE ARMY, W6QK ACC-PICA

Service Type: Custodial and Related Services

Mandatory for: GSA PBS Region 3, Summersville Federal Building & Post Office, 449 Water Street, Summersville, WV

Designated Source of Supply: The Sheltered Workshop of Nicholas County, Inc., Craigsville, WV

Contracting Activity: PUBLIC BUILDINGS SERVICE, PBS R3

Michael R. Jurkowski,
Acting Director, Business Operations.

[FR Doc. 2022-07599 Filed 4-7-22; 8:45 am]

BILLING CODE 6353-01-P